DEPARTMENT OF TRANSPORTATION

Coast Guard

[USCG-2001-11137]

Maritime Security

AGENCY: Coast Guard, DOT.

ACTION: Notice of meeting; request for comments.

SUMMARY: The Coast Guard is holding a public workshop to discuss security procedures, programs, and capabilities within marine transportation systems. Discussions will focus on identifying possible security measures, standards, and responses to threats and acts of crime and terrorism. We encourage interested parties to attend the workshop and submit comments for discussion during the workshop. We also seek comments to the docket, especially from any party unable to attend the workshop.

DATES: The public workshop will be held on January 28 through 30, 2002, from 9 a.m. to 5 p.m., at The Grand Hyatt Washington at Washington Center in Washington DC. We may end the workshop early, if we have covered all of the agenda topics and if the people attending have no further comments. Persons wishing to make presentations must contact CDR Mike Rand by January 7, 2002. Comments and related material must reach the Docket Management Facility on or before February 14, 2002.

ADDRESSES: The workshop will be held at the following location: Grand Hyatt Washington at Washington Center, 1000 H Street, NW., Washington DC., 20001, Phone (202) 582-1234.

You may submit your comments directly to the Docket Management Facility. To make sure that your comments and related material do not enter the docket [USCG-2001-11137] more than once, please submit them by only one of the following means:

(1) Electronically through the Web Site for the Docket Management System at http://dms.dot.gov/.

(2) By fax to the Docket Management Facility at 202-493-2251.

(3) By delivery to room PL-401 on the Plaza level of the Nassif Building, 400 Seventh Street SW., Washington, DC, between 9 a.m. and 5 p.m., Monday through Friday, except Federal holidays. The telephone number is 202-366-9329.

(4) By mail to the Docket Management Facility, (USCG-2001-11137), U.S. Department of Transportation, room PL-401, 400 Seventh Street SW., Washington, DC 20590-0001.

The Docket Management Facility maintains the public docket for this notice. Comments and material received from the public, as well as documents mentioned in this notice as being available in the docket, will become part of this docket and will be available for inspection or copying at room PL-401 on the Plaza level of the Nassif Building, 400 Seventh Street SW., Washington, DC, between 9 a.m. and 5 p.m., Monday through Friday, except Federal holidays. You may also find this notice in the docket on the Internet at http://dms.dot.gov/. Comments in the docket are available to the public for inspection and further comment, including proprietary information if submitted.

FOR FURTHER INFORMATION CONTACT: For information concerning this notice or the public workshop, write or call CDR Mike Rand, at the Vessel and Facility Security Division (G-MP), U.S. Coast Guard Headquarters, 2100 Second Street, SW., Washington, DC 20590, mrand@comdt.uscg.mil, or at 202-267-6853. For questions on viewing or submitting material to the docket, call Dorothy Beard, Chief of Dockets, Department of Transportation, at 202-366-5149.

SUPPLEMENTARY INFORMATION:

Request for Comments

We encourage you to participate in this workshop by submitting comments and related material. If you do so, please include your name and address, identify the docket number [USCG-2001-11137] and give the reason for each comment. You may submit your comments and material electronically, by fax, by delivery, or by mail to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period.

Public Workshop

The Coast Guard encourages owners and operators of vessels, offshore platforms, and facilities, agencies in law enforcement and emergency planning, port authorities, shipping agents, insurance companies, Protection and Indemnity Clubs, and other interested persons to attend the workshop. Workshop attendees will have the opportunity to verbally comment on topics scheduled for discussion on the agenda. We may ask questions to clarify comments given by an attendee. The workshop will be held January 28 through 30 from 9 a.m. to 5 p.m. each day at The Grand Hyatt Washington at Washington Center in Washington DC. Separate sessions discussing threats to the marine transportation system's security in such areas as physical security, operational measures, and access control will be held simultaneously each day to allow for comments and/or presentations on these topics. The completed agenda will be placed on the docket approximately two weeks before the workshop. We also will announce the availability of the agenda on the docket in a notice published in the Federal Register.

For those wishing to make a presentation at the workshop, please notify CDR Mike Rand with the following information:

(1) The topic you wish to talk about;

(2) The date and time you would like to schedule the presentation; and

(3) Any materials (such as video and audio equipment) you might need to conduct your presentation.

Persons wishing to make presentations must contact CDR Mike Rand by January 7, 2002. Information on how to contact him is under FOR FURTHER INFORMATION CONTACT.

Information on Services for Individuals With Disabilities

To obtain information on facilities or services for individuals with disabilities or to ask that we provide special assistance at the workshop, please notify CDR Mike Rand at the address or phone number under FOR FURTHER INFORMATION CONTACT.

Background and Purpose

The terrorist attacks of September 11, 2001, and the attack on USS COLE, a Navy ship moored in Yemen that killed 17 sailors and injured 37 in October of 2000, make it clear that the marine transportation system faces unprecedented threats.

The United States can ill afford to ignore the potential vulnerability of its marine transportation system (MTS). More than 95 percent of U.S. foreign trade by volume now travels by sea. The MTS, whether at port facilities in coastal waters or along inland waterways, plays a vital role in America's transportation network.

In addition, U.S. ports handle more than 17 million containers each year. Containers raise a specific concern because they are, by design, intermodal. A container unloaded at a port on one day is often deployed deep into America's heartland soon thereafter by truck or rail. With only a small percentage of those containers currently being inspected by federal agencies, the potentiality for illegal activities is enormous.

Ports are not the only potential maritime targets; other such targets include but are not limited to—tank vessels, passenger vessels, cargo vessels, facilities for exploration and production of oil, power plants, bridges, other critical infrastructure, and the marine environment also need protection. Furthermore, the United States has more than 95,000 miles of coastline, providing many infiltration routes into the country.

It is important to note that the Coast Guard and Congress were concerned about MTS security even before September 11, 2001. Indeed, the Port and Maritime Security Act was introduced at the close of the 106th Congress. If passed, the Act would, among other things, authorize the Coast Guard to establish an MTS security task force in consultation with the U.S. Customs Service, and the Maritime Administration.

The proposed Act was prompted by the work of the President's Interagency Commission on Crime and Security in U.S. Seaports, which subsequently issued a report highlighting the threats to our nation's ports. The Commission found that:

• The state of security in U.S. seaports generally ranges from poor to fair, and, in a few cases, good. There are no widely accepted standards or guidelines for physical, procedural, and personnel security for seaports, although some ports are making outstanding efforts to improve security. Control of access to the seaport or sensitive areas within it is often lacking. Practices to restrict or control the access of vehicles to vessels, the receipt and delivery of cargo, and the processing of passengers at seaports are either not present or not consistently enforced, increasing the risk that violators could quickly remove cargo or contraband. Many ports do not issue identification cards to personnel to restrict the access to vessels, the receipt and delivery of cargo, and the processing of passengers.

• Vessel manifests, import and export, are sometimes deficient for import risk assessment and export control. Information from them is easier to use for drug enforcement and commercial compliance if it is received as electronic data before the arrival of vessels.

• Although the Federal government has established formal structures for coordinating governmental efforts and has developed national strategies to address drug trafficking, terrorism, other domestic and international crime, and to guarantee economic mobility, seaport security per se has not been adequately addressed. Stronger and more focused coordination among agencies and between the public and private sectors to enhance Security is needed.

Topic of Discussion: Security of Marine Transportation Systems

The Coast Guard is conducting this workshop to assess existing MTS security standards and measures to gather ideas on possible improvements. To facilitate discourse during the workshop attendees should, before attending the workshop, evaluate threats to MTS security in such areas as physical security, operational measures, and access control. After recognizing threats to MTS security, the public should evaluate existing MTS security standards and measures to identify vulnerabilities, and then develop possible adjustments to decrease those vulnerabilities. The workshop will provide the public an opportunity to present ideas and to discuss the threats, vulnerabilities, and adjustments to MTS security. In the future we may propose new or amendatory rules that would address issues broached during the workshop.

Three general areas of MTS security, to wit, physical security, operational measures, and access control, will almost certainly arise during the workshop. Persons planning to attend the workshop should be prepared to discuss these general areas as they relate to security, protection, and economic performance of the maritime industry. Workshop attendees will be asked to discuss a host of possible costs and benefits that could result from identifying and addressing physical security, operational measures, and access-control vulnerabilities.

We request information about all current Federal, State, and local governmental laws, procedures, regulations, and standards that are either functioning or that are planned. We also request industry to provide any current and planned standards and procedures covering the security of vessels and facilities. Finally, we request recommendations toward needed improvement or added regulations. Examples of the types of information we are interested in receiving are:

Physical security. Discussions of the physical security of personnel, ports, facilities, and vessels might include, but are not limited to:

• Measures and standards currently being used at a facility or on board a vessel.

• Criteria for measures and standards at a facility or on board a vessel such as fences, gates, alarms, lighting, antennas, and personnel on watch.

• Security technologies currently used or possible to make ports, facilities, and vessels more secure against the threat or commission of crimes or terrorism.

Operational measures. Discussions of the operational measures for personnel, ports, facilities, and vessels might include, but are not limited to:

• Effectiveness of existing passenger terminals and passenger vessels security plan requirements.

• Effectiveness of existing terminal and security plans for ports, vessels, offshore platforms, and industry.

• Facilities and vessels, other than passenger terminals and passenger vessels regulated in 33 CFR parts 120 and 128, which should have security plans.

• Response plans in place to prevent criminal and terrorist acts and threats.

• Details of measures taken in response to such acts and threats.

• Necessity of MTS security committees and the sharing of intelligence and threat advisories between the Coast Guard and industry.

• Criteria and need for a tracking system for vessels trafficking the navigable waters of the United States.

Access control. Discussions of access control for personnel, passengers, and cargo might include, but are not limited to:

• Criteria and process for background check prior to employment.

• Check points that screen personnel, passengers, cargo, and baggage.

• Additional information, currently used or deemed necessary to document or certificate personnel, facilities, and vessels.

• Types of credentials (such as identification cards, employment cards, and access passes) used to limit access.

Dated: December 10, 2001.
Joseph J. Angelo,
Director of Standards, Marine Safety and Environmental Protection.

[FR Doc. 01-31171 Filed 12-13-01; 3:46 pm]

BILLING CODE 4910-15-P